DEPARTMENT OF THE INTERIOR

Fish and Wildlife Service

[Docket No. FWS-R6-ES-2015-0104; 4500030113]

Endangered and Threatened Wildlife and Plants; Status Review of the Northern Rocky Mountain Distinct Population Segment of the Fisher

AGENCY: Fish and Wildlife Service, Interior.

ACTION: Notice of initiation of status review.

SUMMARY: We, the U.S. Fish and Wildlife Service (Service), announce the opening of an information gathering period regarding the status of the fisher (Pekania pennanti) throughout the range of its northern Rocky Mountain distinct population segment (DPS) in the United States. The status review will include analysis of whether the northern Rocky Mountain DPS of the fisher warrants listing as an endangered or a threatened species under the Endangered Species Act of 1973, as amended (Act). We encourage all interested parties to provide us information regarding the status of, and any potential threats to, the northern Rocky Mountain DPS of the fisher.

DATES: We will accept comments from all interested parties until February 13, 2017. Please note that if you are using the Federal eRulemaking Portal (see ADDRESSES, below), the deadline for submitting an electronic comment is 11:59 p.m. Eastern Time on this date.

ADDRESSES: You may submit comments by one of the following methods:

• Federal eRulemaking Portal: http://www.regulations.gov. In the Search box, enter the FWS-R6-ES-2015-0104, which is the docket number for this action. Then click on the Search button. You may enter a comment by clicking on “Comment Now!” Please ensure that you have found the correct document before submitting your comment.

• U.S. mail or hand delivery: Public Comments Processing, Attn: Docket No. FWS-R6-ES-2015-0104, U.S. Fish and Wildlife Service, MS: BPHC, 5275 Leesburg Pike, Falls Church, VA 22041-3803.

We request that you send comments only by the methods described above. We will post all comments on http://www.regulations.gov. This generally means that we will post any personal information you provide us (see Request for Information, below, for more information).

FOR FURTHER INFORMATION CONTACT: Jodi Bush, Field Supervisor, U.S. Fish and Wildlife Service, Montana Ecological Services Field Office, 585 Shepard Way, Helena, MT 59601; telephone 406-449-5225; or facsimile 406-449-5339. Persons who use a telecommunications device for the deaf (TDD) may call the Federal Relay Service at 800-877-8339.

SUPPLEMENTARY INFORMATION:

Request for Information

This document solicits biological or other data or information on the status of, and potential threats to, the northern Rocky Mountain DPS of the fisher, a medium-sized mammal of the mustelid family. This information, along with other sources of data, will be used to determine if the northern Rocky Mountain DPS of the fisher warrants listing as an endangered or a threatened species under the Act (16 U.S.C. 1531 et seq.). We request any new information concerning the status of the northern Rocky Mountain DPS of the fisher. Information submitted since the 2011 status review (which culminated in our 12-month finding published on June 30, 2011, at 76 FR 38504) and the 2016 90-day petition finding (81 FR 1368; January 12, 2016) will be considered and need not be resubmitted. We will base our status review on the best scientific and commercial information available, including all information received as a result of this publication. We are soliciting information and supporting data on the northern Rocky Mountain DPS of the fisher; we specifically seek information on the following:

(1) Information regarding the species' historical and current population status, distribution, abundance, and trends; biology and ecology; and habitat selection.

(2) Information on the effects of potential threat factors that are the basis for a species' listing determination under section 4(a)(1) of the Act (16 U.S.C. 1533(a)(1)), which are:

(a) The present or threatened destruction, modification, or curtailment of the species' habitat or range;

(b) Overutilization for commercial, recreational, scientific, or educational purposes;

(c) Disease or predation;

(d) Inadequacy of existing regulatory mechanisms; and

(e) Other natural or manmade factors affecting its continued existence.

(3) Scientific and commercial data to assist in development of any proposed critical habitat designation that we may make, including:

(a) Whether the designation of critical habitat for the northern Rocky Mountain DPS of the fisher would be beneficial to the conservation of the species or whether the identification of specific areas as critical habitat may increase threats to the species or its habitat;

(b) Habitat selection and use, and any changes or trends in the amount and distribution of habitat for the northern Rocky Mountain DPS of the fisher;

(c) Habitat requirements for feeding, breeding, and sheltering, including particular physical or biological features that are essential to the conservation of the species and where such physical or biological features are found;

(d) Whether any of these features may require special management considerations or protection;

(e) What areas that are currently occupied and contain the physical or biological features essential to the conservation of the species should be included in the critical habitat designation and why;

(f) What areas not currently occupied at the time of listing are essential for the conservation of the species and why; and

(g) The possible benefits and impacts (including probable economic impacts) of a possible critical habitat designation for the northern Rocky Mountain DPS of the fisher.

(4) Biological, commercial trade, or other relevant data concerning any threats (or lack thereof) to this species and regulations that may be addressing those threats.

(5) Any information on the biological or ecological requirements of the species and ongoing conservation measures for the species and its habitat.

(6) Information on land use designations and current or planned activities in the areas occupied by the northern Rocky Mountain DPS of the fisher or areas that may be important for its conservation, and possible impacts of these activities on this species and these areas.

(7) Information on the projected and reasonably likely impacts of climate change on the northern Rocky Mountain DPS of the fisher and its habitat.

(8) Information on any foreseeable economic, national security, or other relevant impacts that may result if we designate any area as critical habitat. We are particularly interested in any potential impacts on small entities, and the benefits of including or excluding areas from any possible future proposed designation that are subject to these impacts.

Please support submissions with documentation such as maps; bibliographic references; methods used to gather and analyze the data; or copies of pertinent publications, reports, or letters by knowledgeable sources. We request data from systematic surveys, studies, or analyses of data regarding population size or trends, biology or ecology of the species, effects of current land management on population distribution and abundance, current condition of habitat, and conservation measures that have been implemented to benefit the species. We also request information on the current distribution of populations and threats to the species in relation to the five listing factors (as defined in section 4(a)(1) of the Act).

Comments merely stating support for or opposition to a particular action without providing supporting data may not meet the standard of information required by section 4(b)(1)(A) of the Act, which directs that determinations as to whether any species is an endangered or a threatened species must be made “solely on the basis of the best scientific and commercial data available.”

You may submit your comments and materials concerning this proposed rule by one of the methods listed in ADDRESSES. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Authors

The primary authors of this document are staff of the Montana Ecological Services Field Office.

Authority: The authority for this action is the Endangered Species Act of 1973, as amended (16 U.S.C. 1531 et seq.).

Dated: January 5, 2017.
Stephen Guertin,
Acting Director, U.S. Fish and Wildlife Service.

[FR Doc. 2017-00656 Filed 1-12-17; 8:45 am]

BILLING CODE 4333-15-P